DEPARTMENT OF TRANSPORTATION

Federal Aviation Administration

14 CFR Part 39

[Docket No. FAA-2015-8469; Directorate Identifier 2014-NM-105-AD; Amendment 39-18602; AD 2016-16-04]

RIN 2120-AA64

Airworthiness Directives; Fokker Services B.V. Airplanes

AGENCY: Federal Aviation Administration (FAA), Department of Transportation (DOT).

ACTION: Final rule.

SUMMARY: We are adopting a new airworthiness directive (AD) for all Fokker Services B.V. Model F.28 Mark 1000, 2000, 3000, and 4000 airplanes. This AD was prompted by a design review that revealed insufficient measures were taken to ensure the correct locking of the attachments of the fuel quantity tank units (FQTUs) in each wing tank. When an FQTU becomes loose, this could lead to insufficient clearance between the FQTU and the adjacent tank structure or other metal parts, and under certain conditions, create an ignition source inside the wing fuel vapor space. This AD requires modifying the FQTUs by applying sealant to cover the nuts, washers, and stud ends at the FQTU attachments in each main wing tank. This AD also requires revising the maintenance or inspection program, as applicable, by incorporating a fuel airworthiness limitation item and a critical design configuration control limitation (CDCCL). We are issuing this AD to prevent an ignition source in the wing fuel tank vapor space, which could result in a wing fuel tank explosion and consequent loss of the airplane.

DATES: This AD is effective September 8, 2016.

The Director of the Federal Register approved the incorporation by reference of certain publications listed in this AD as of September 8, 2016.

ADDRESSES: For service information identified in this final rule, contact Fokker Services B.V., Technical Services Dept., P.O. Box 1357, 2130 EL Hoofddorp, the Netherlands; telephone +31 (0)88-6280-350; fax +31 (0)88-6280-111; email technicalservices@fokker.com; Internet http://www.myfokkerfleet.com. You may view this referenced service information at the FAA, Transport Airplane Directorate, 1601 Lind Avenue SW., Renton, WA. For information on the availability of this material at the FAA, call 425-227-1221. It is also available on the Internet at http://www.regulations.gov by searching for and locating Docket No. FAA-2015-8469.

Examining the AD Docket

You may examine the AD docket on the Internet at http://www.regulations.gov by searching for and locating Docket No. FAA-2015-8469; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

We issued a notice of proposed rulemaking (NPRM) to amend 14 CFR part 39 by adding an AD that would apply to all Fokker Services B.V. Model F.28 Mark 1000, 2000, 3000, and 4000 airplanes. The NPRM published in the Federal Register on January 20, 2016 (81 FR 3056) (“the NPRM”).

The European Aviation Safety Agency (EASA), which is the Technical Agent for the Member States of the European Union, has issued EASA Airworthiness Directive 2014-0106, dated May 7, 2014 (referred to after this the Mandatory Continuing Airworthiness Information, or “the MCAI”), to correct an unsafe condition for all Fokker Services B.V. Model F.28 Mark 1000, 2000, 3000, and 4000 airplanes. The MCAI states:

Prompted by an accident * * *, the Federal Aviation Administration (FAA) published Special Federal Aviation Regulation (SFAR) 88 [(66 FR 23086, May 7, 2001)], and the Joint Aviation Authorities (JAA) published Interim Policy INT/POL/25/12.

The review conducted by Fokker Services on the Fokker F28 design, in response to these regulations, revealed that insufficient measures were taken to ensure the correct locking of the attachments of the Fuel Quantity Tank Units (FQTUs). When a FQTU becomes loose, this could lead to insufficient clearance between the FQTU and the adjacent tank structure or other metal parts and, under certain conditions, create an ignition source inside the wing fuel tank vapour space.

This condition, if not detected and corrected, could result in a wing fuel tank explosion and consequent loss of the aeroplane.

To address this potential unsafe condition, Fokker Services developed a modification to ensure that each FQTU remains properly attached.

For the reasons described above, this [EASA] AD requires the application of sealant covering the nuts, washers and stud ends at the FQTU attachment in each wing tank [and a revision to the maintenance or inspection program, as applicable, to incorporate a fuel airworthiness limitation item and a CDCCL]. More information on this subject can be found in Fokker Services All Operators Message AOF28.038#02.

You may examine the MCAI in the AD docket on the Internet at http://www.regulations.gov by searching for and locating Docket No. FAA-2015-8469.

Comments

We gave the public the opportunity to participate in developing this AD. We received no comments on the NPRM or on the determination of the cost to the public.

Conclusion

We reviewed the relevant data and determined that air safety and the public interest require adopting this AD with the changes described previously and minor editorial changes. We have determined that these minor changes:

• Are consistent with the intent that was proposed in the NPRM for correcting the unsafe condition; and

• Do not add any additional burden upon the public than was already proposed in the NPRM.

Related Service Information Under 1 CFR Part 51

Fokker Services B.V. has issued Service Bulletin SBF28-28-050, Revision 3, dated December 11, 2014. The service information describes the fuel airworthiness limitation item and the CDCCL. Fokker Services B.V. has also issued Service Bulletin SBF28-28-054, Revision 1, dated January 9, 2014, which describes procedures for applying sealant to the attachment nuts, washers, and stud ends of the FQTU; and Manual Change Notification—Maintenance Documentation MCNM-F28-037, Rev 1, dated January 9, 2014, which describes related changes in the affected maintenance documents.

This service information is reasonably available because the interested parties have access to it through their normal course of business or by the means identified in the ADDRESSES section.

Costs of Compliance

We estimate that this AD affects 5 airplanes of U.S. registry.

We estimate the following costs to comply with this AD:

Estimated Costs
Action | Labor cost | Parts cost | Cost per product | Cost on U.S. operators
Modification and maintenance program revision | 7 work-hours × $85 per hour = $595 | $0 | $595 | $2,975

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-16-04 Fokker Services B.V.: Amendment 39-18602; Docket No. FAA-2015-8469; Directorate Identifier 2014-NM-105-AD.

(a) Effective Date

This AD is effective September 8, 2016.

(b) Affected ADs

None.

(c) Applicability

This AD applies to Fokker Services B.V. Model F.28 Mark 1000, 2000, 3000, and 4000 airplanes, certificated in any category, all serial numbers.

(d) Subject

Air Transport Association (ATA) of America Code 28, Fuel.

(e) Reason

This AD was prompted by a design review that revealed insufficient measures were taken to ensure the correct locking of the attachments of the fuel quantity tank units (FQTUs) in each wing tank. When an FQTU becomes loose, this could lead to insufficient clearance between the FQTU and the adjacent tank structure or other metal parts, and under certain conditions, create an ignition source inside the wing fuel vapor space. We are issuing this AD to prevent an ignition source in the wing fuel tank vapor space, which could result in a wing fuel tank explosion and consequent loss of the airplane.

(f) Compliance

Comply with this AD within the compliance times specified, unless already done.

(g) Modification of the FQTUs

At the next scheduled opening of the fuel tanks after the effective date of this AD, but no later than 84 months after the effective date of this AD, modify the FQTU in each main wing tank by applying sealant to cover the nuts, washers, and stud ends of the FQTU attachments, and do an inspection for leakage of the tank access panels, in accordance with the Accomplishment Instructions of Fokker Service Bulletin SBF28-28-054, Revision 1, dated January 9, 2014; and the information in Fokker Manual Change Notification—Maintenance Documentation MCNM-F28-037, Rev 1, dated January 9, 2014. If any fuel leakage is found, before further flight, reapply the sealant, in accordance with the Accomplishment Instructions of Fokker Service Bulletin SBF28-28-054, Revision 1, dated January 9, 2014; and the information in Fokker Manual Change Notification—Maintenance Documentation MCNM-F28-037, Rev 1, dated January 9, 2014.

(h) Revision of Maintenance or Inspection Program

Before further flight after completing the modification specified in paragraph (g) of this AD, or within 30 days after the effective date of this AD, whichever occurs later: Revise the airplane maintenance or inspection program, as applicable, by incorporating the fuel airworthiness limitation item and critical design configuration control limitation (CDCCL) specified in paragraph 1.L.(1)(c) of Fokker Service Bulletin SBF28-28-054, Revision 1, dated January 9, 2014. The initial compliance times for these tasks are at the latest of the times specified in paragraphs (h)(1), (h)(2), and (h)(3) of this AD.

(1) At the applicable time specified in Fokker Service Bulletin SBF28-28-050, Revision 3, dated December 11, 2014.

(2) Before further flight after completing the modification specified in paragraph (g) of this AD.

(3) Within 30 days after the effective date of this AD.

(i) No Alternative Actions, Intervals, and CDCCLs

After accomplishing the revision required by paragraph (h) of this AD, no alternative actions (e.g., inspections), intervals, or CDCCLs may be used unless the actions, intervals, or CDCCLs are approved as an alternative method of compliance (AMOC) in accordance with the procedures specified in paragraph (k)(1) of this AD.

(j) Credit for Previous Actions

This paragraph provides credit for actions required by paragraph (g) of this AD, if those actions were performed before the effective date of this AD using Fokker Service Bulletin SBF28-28-054, dated June 30, 2010.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or Fokker Services B.V.'s EASA Design Organization Approval (DOA). If approved by the DOA, the approval must include the DOA-authorized signature.

(l) Related Information

(1) Refer to Mandatory Continuing Airworthiness Information (MCAI) EASA Airworthiness Directive 2014-0106, dated May 7, 2014, for related information. This MCAI may be found in the AD docket on the Internet at http://www.regulations.gov by searching for and locating Docket No. FAA-2015-8469.

(2) Service information identified in this AD that is not incorporated by reference is available at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Fokker Manual Change Notification—Maintenance Documentation MCNM-F28-037, Rev 1, dated January 9, 2014.

(ii) Fokker Service Bulletin SBF28-28-050, Revision 3, dated December 11, 2014.

(iii) Fokker Service Bulletin SBF28-28-054, Revision 1, dated January 9, 2014.

(3) For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on July 21, 2016.
Michael Kaszycki,
Acting Manager, Transport Airplane Directorate, Aircraft Certification Service.

[FR Doc. 2016-18171 Filed 8-3-16; 8:45 am]

BILLING CODE 4910-13-P